DEPARTMENT OF STATE

[Delegation of Authority No. 271]

Functions Relating to Arrivals and Departures from the United States

By virtue of the authority vested in me as Secretary of State, including the authority conferred on me by Executive Order 13323, I hereby delegate to the Assistant Secretary for Consular Affairs the functions vested in me as Secretary of State by Executive Order 13323.

Notwithstanding any provision of this Delegation of Authority, the Secretary of State, the Deputy Secretary of State, the Under Secretary for Political Affairs, and the Under Secretary of State for Management may at any time exercise any function delegated by this delegation of authority.

The functions delegated by this delegation of authority may not be redelegated.

The statutes, regulations, and procedures referenced in this delegation shall be deemed to be such statutes, regulations or procedures as amended from time to time.

This delegation shall be published in the Federal Register.

Dated: January 30, 2004.
Colin L. Powell,
Secretary of State, Department of State.

[FR Doc. 04-4010 Filed 2-23-04; 8:45 am]

BILLING CODE 4710-10-P